DEPARTMENT OF ENERGY

Federal Energy Regulatory Commission

[Docket No. CP04-404-000]

Tennessee Gas Pipeline Company; Notice of Abbreviated Application for Authorization To Abandon Service and To Amend Certificate of Public Convenience and Necessity

August 31, 2004.

Take notice that on August 24, 2004, Tennessee Gas Pipeline Company (Tennessee), filed an application pursuant to Sections 7(b) and 7(c) of the Natural Gas Act (NGA), 15 U.S.C. 717f(b) and 717f(c), and Part 157 of the Commission's Regulations, as amended, and the Regulations of the Federal Energy Regulatory Commission, requesting that the Commission: (1) Grant Tennessee authorization to abandon the section 7(c) firm natural gas transportation service that Tennessee provides to Dominion Transmission Inc., (Dominion), formerly CNG Transmission Corporation, pursuant to a permanently assigned Firm Natural Gas Transportation between Tennessee and Cogen Energy Technology, LP, Tennessee's Rate Schedule NET and the Certificate Order; and (2) permit TransCanada Power (Castleton) LLC, to assume Dominion's service entitlements under a new Firm Natural Gas Transportation Agreement pursuant to Tennessee's Rate Schedule NET.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern standard time on September 16, 2004.

Magalie R. Salas,
Secretary.

[FR Doc. E4-2122 Filed 9-8-04; 8:45 am]

BILLING CODE 6717-01-P